OFFICE OF PERSONNEL MANAGEMENT

Excepted Service

AGENCY: U.S. Office of Personnel Management (OPM).

ACTION: Notice.

SUMMARY: This notice identifies Schedule A, B, and C appointing authorities applicable to a single agency that were established or revoked from March 1, 2016, to March 31, 2016.

FOR FURTHER INFORMATION CONTACT: Senior Executive Resources Services, Senior Executive Services and Performance Management, Employee Services, 202-606-2246.

SUPPLEMENTARY INFORMATION: In accordance with 5 CFR 213.103, Schedule A, B, and C appointing authorities available for use by all agencies are codified in the Code of Federal Regulations (CFR). Schedule A, B, and C appointing authorities applicable to a single agency are not codified in the CFR, but the Office of Personnel Management (OPM) publishes a notice of agency-specific authorities established or revoked each month in the Federal Register at www.gpo.gov/fdsys/. OPM also publishes an annual notice of the consolidated listing of all Schedule A, B, and C appointing authorities, current as of June 30, in the Federal Register.

Schedule A

No Schedule A Authorities to report during March 2016.

Schedule B

No Schedule B Authorities to report during March 2016.

Schedule C

The following Schedule C appointing authorities were approved during March 2016.

Agency name | Organization name | Position title | Authorization No. | Effective date
Department of Agriculture | Farm Service Agency | State Executive Director—Rhode Island | DA160077 | 3/4/2016
|  | State Executive Director | DA160091 | 3/30/2016
| Rural Housing Service | Senior Advisor State Director | DA160081 DA160090 | 3/17/2016 3/30/2016
| Office of Communications | Senior Advisor for Strategic Communications | DA160083 | 3/17/2016
| Office of the Under Secretary for Rural Development | Confidential Assistant Chief of Staff | DA160087 DA160084 | 3/17/2016 3/28/2016
| Office of Communications | Deputy Press Secretary | DA160080 | 3/18/2016
| Office of the Under Secretary for Research, Education, and Economics | Senior Advisor | DA160085 | 3/18/2016
| Office of the Under Secretary for Marketing and Regulatory Programs | Chief of Staff | DA160082 | 3/30/2016
| Rural Business Service | Senior Advisor | DA160089 | 3/30/2016
Department of Commerce | Office of the Under Secretary | Deputy Chief Communications Officer for Strategic Communications | DC160095 | 3/2/2016
|  | Special Assistant | DC160103 | 3/17/2016
|  | Senior Advisor | DC160111 | 3/18/2016
| Office of the Assistant Secretary for Industry and Analysis | Senior Director | DC160101 | 3/7/2016
| Office of Legislative and Intergovernmental Affairs | Confidential Assistant Associate Director | DC160105 DC160108 | 3/14/2016 3/17/2016
| Office of Public Affairs | Deputy Director of Public Affairs and Director of Speechwriting | DC160106 | 3/14/2016
|  | Deputy Director of Speechwriting | DC160107 | 3/18/2016
| Office of Business Liaison | Associate Director Special Assistant | DC160102 DC160110 | 3/7/2016 3/21/2016
| Office of the Director | Senior Advisor | DC160117 | 3/21/2016
| Economic Development Administration | Special Advisor | DC160116 | 3/30/2016
Department of Defense | Office of the Assistant Secretary of Defense (Legislative Affairs) | Special Assistant(Legislative Affairs) (Chief, Policy) | DD160068 | 3/1/2016
| Office of the Assistant Secretary of Defense (Homeland Defense and America's Security Affairs) | Special Assistant for Cyber Policy | DD160077 | 3/2/2016
| Office of the Assistant Secretary of Defense (Special Operations/Low Intensity Conflict and Interdependent Capabilities) | Special Assistant (Special Operations and Low-Intensity Conflict) | DD160071 | 3/3/2016
| Office of the Assistant Secretary of Defense (International Security Affairs) | Senior Advisor (Europe/North Atlantic Treaty Organization) | DD160002 | 3/4/2016
| Office of the Assistant Secretary of Defense (Legislative Affairs) | Special Assistant (Policy) | DD160080 | 3/4/2016
| Office of the Secretary | Special Assistant (2) | DD160067 DD160084 | 3/17/2016 3/18/2016
|  | Director of Operations | DD160085 | 3/18/2016
| Office of Assistant Secretary of Defense (Public Affairs) | Speechwriter (2) | DD160078 DD160089 | 3/17/2016 3/23/2016
| Office of the Under Secretary of Defense (Personnel and Readiness) | Special Assistant for Personnel and Readiness | DD160083 | 3/17/2016
Department of the Navy | Office of the Under Secretary of the Navy | Senior Advisor | DN160012 | 3/18/2016
Department of Education | Office of the Under Secretary | Assistant Director, White House—Educational Excellence for African Americans | DB160041 | 3/2/2016
| Office of Planning, Evaluation and Policy Development | Special Assistant | DB160048 | 3/2/2016
| Office of the Secretary | Special Advisor | DB160038 | 3/9/2016
|  | Director, White House Liaison | DB160053 | 3/17/2016
|  | Deputy Director, White House Liaison | DB160060 | 3/21/2016
|  | Deputy Director of Advance | DB160059 | 3/24/2016
| Office of Communications and Outreach | Assistant Press Secretary | DB160055 | 3/17/2016
| Office of the General Counsel | Deputy Chief of Staff | DB160056 | 3/17/2016
| Office of Career Technical and Adult Education | Chief of Staff | DB160063 | 3/24/2016
| Office of Elementary and Secondary Education | Special Assistant | DB160064 | 3/29/2016
| Office of the Deputy Secretary | Senior Policy Advisor | DB160065 | 3/29/2016
Department of Energy | Office of the Secretary | Special Advisor for Finance and Clean Energy Investment | DE160072 | 3/1/2016
| Office of Public Affairs | Special Advisor for Digital Communications | DE160075 | 3/8/2016
| Office of Assistant Secretary for Energy Efficiency and Renewable Energy | Special Advisor for External Affairs | DE160076 | 3/8/2016
| Office of Technology Transition | Chief of Staff | DE160078 | 3/9/2016
| Office of Energy Policy and Systems Analysis | Special Advisor | DE160079 | 3/9/2016
| Office of Assistant Secretary for Congressional and Intergovernmental Affairs | Legislative Affairs Advisor Advisor for Intergovernmental and External Affairs | DE160070 DE160082 | 3/4/2016 3/23/2016
| Office of Science | Special Advisor | DE160086 | 3/30/2016
Environmental Protection Agency | Scheduling Staff | Scheduler | EP160018 | 3/1/2016
| Office of Public Affairs | Deputy Press Secretary | EP160027 | 3/30/2016
Executive Office of the President | Council on Environmental Quality | Special Assistant, Climate Preparedness | OP160003 | 3/17/2016
Department of Health and Human Services | Office of the National Coordinator for Health Information Technology | Director of Communications | DH160056 | 3/3/2016
| Office of the Assistant Secretary for Public Affairs | Director of Speechwriting and Senior Advisor | DH160078 | 3/17/2016
|  | Director of Specialty Media Senior Advisor | DH160079 DH160080 | 3/18/2016 3/22/2016
Department of Homeland Security | Office of the Under Secretary for Science and Technology | Counselor for Export Controls | DM160107 | 3/1/2016
| Office of the Under Secretary for National Protection and Programs Directorate | External Engagement Coordinator | DM160140 | 3/4/2016
| Office of the Executive Secretariat | Senior Advisor | DM160148 | 3/4/2016
| United States Customs and Border Protection | Senior Advisor for Strategic Communication | DM160136 | 3/7/2016
| Office of the Assistant Secretary for Policy | Special Assistant In Information Sharing Policy | DM160149 | 3/7/2016
| Office of the Chief of Staff | Deputy White House Liaison | DM160145 | 3/10/2016
| Office of Assistant Secretary for Legislative Affairs | Legislative Director | DM160164 | 3/17/2016
|  | Associate Director (2) | DM160165 DM160182 | 3/17/2016 3/30/2016
| Ombudsman, Citizenship and Immigration Services | Special Assistant | DM160172 | 3/23/2016
| Office of the Executive Secretariat | Deputy Secretary Briefing Book Coordinator | DM160169 | 3/24/2016
|  | Special Assistant | DM160170 | 3/24/2016
| Office of the Assistant Secretary for Intergovernmental Affairs | Intergovernmental Affairs Coordinator | DM160171 | 3/29/2016
| United States Immigration and Customs Enforcement | Special Assistant | DM160181 | 3/30/2016
| Office of the Assistant Secretary for Public Affairs | Assistant Press Secretary | DM160183 | 3/30/2016
Department of Housing and Urban Development | Office of Congressional and Intergovernmental Relations | Congressional Relations Specialist | DU160014 | 3/11/2016
| Office of Fair Housing and Equal Opportunity | Special Policy Advisor | DU160021 | 3/29/2016
| Office of Public Affairs | Press Secretary | DU160019 | 3/30/2016
Department of Justice | Executive Office for United States Attorneys | Counsel | DJ160063 | 3/8/2016
| Office of Legislative Affairs | Confidential Assistant | DJ160066 | 3/10/2016
Department of Labor | Office of the Secretary | Advisor | DL160046 | 3/1/2016
| Office of the Deputy Secretary | Counselor | DL160050 | 3/8/2016
| Office of Congressional and Intergovernmental Affairs | Associate Counselor | DL160036 | 3/10/2016
| Office of Congressional and Intergovernmental Affairs | Legislative Officer | DL160054 | 3/18/2016
| Women's Bureau | Chief of Staff | DL160047 | 3/10/2016
| Office of Congressional and Intergovernmental Affairs | Senior Legislative Officer and Counselor | DL160035 | 3/17/2016
| Office of Public Affairs | Digital Engagement Director | DL160053 | 3/18/2016
National Endowment for the Humanities | Office of Communications | Digital Communications Strategist | NH160004 | 3/29/2016
Office of Management and Budget | Office of the Director | Confidential Assistant | BO160022 | 3/3/2016
| Office of Legislative Affairs | Deputy for Legislative Affairs | BO160025 | 3/14/2016
| National Security Programs | Confidential Assistant | BO160027 | 3/17/2016
| Office of the General Counsel | Confidential Assistant | BO160029 | 3/29/2016
| Office of the Director | Confidential Assistant | BO160030 | 3/29/2016
| Natural Resource Programs | Confidential Assistant | BO160031 | 3/29/2016
Office of National Drug Control Policy | Office of Intergovernmental Public Liaison | Digital Engagement Specialist | QQ160001 | 3/11/2016
Office of Personnel Management | Employee Services | Senior Advisor for Workforce Planning and Talent Development | PM160017 | 3/8/2016
| Office of Congressional, Legislative, and Intergovernmental Affairs | Senior Advisor | PM160018 | 3/8/2016
| Office of Communications | Deputy Director of Communication | PM160019 | 3/11/2016
Overseas Private Investment Corporation | Overseas Private Investment Corporation | Senior Advisor | PQ160007 | 3/1/2016
Small Business Administration | Office of the Administrator | Special Assistant to the Administrator Senior Advisor | SB160016 SB160018 | 3/4/2016 3/8/2016
| Office of Communications and Public Liaison | Speech Writer | SB160020 | 3/21/2016
Department of State | Office of the Deputy Secretary for Management and Resources | Senior Advisor | DS160056 | 3/3/2016
| Bureau of Economic and Business Affairs | Senior Advisor (Speechwriter) | DS160057 | 3/4/2016
| Bureau of East Asian and Pacific Affairs | Deputy Assistant Secretary for Multilateral Affairs and Strategy | DS160054 | 3/4/2016
| Office of International Information Programs | Staff Assistant | DS160058 | 3/14/2016
| Bureau of Legislative Affairs | Principal Deputy Assistant Secretary | DS160060 | 3/18/2016
| Office of the Under Secretary for Public Diplomacy and Public Affairs | Staff Assistant | DS160061 | 3/18/2016
| Foreign Policy Planning Staff | Senior Advisor | DS160064 | 3/30/2016
Department of Transportation | Office of Public Affairs | Chief Speechwriter | DT160038 | 3/4/2016
|  | Deputy Press Secretary | DT160045 | 3/11/2016
| Office of Assistant Secretary for Governmental Affairs | Director of Governmental Affairs | DT160041 | 3/11/2016
| Office of General Counsel | Special Counsel | DT160044 | 3/11/2016
| National Highway Traffic Safety Administration | Director of Communications | DT160043 | 3/18/2016
Department of the Treasury | Office of the Secretary of the Treasury | Senior Advisor (2) | DY160060 DY160062 | 3/1/2016 3/1/2016
| Office of Assistant Secretary (Public Affairs) | Spokesperson (2) | DY160061 DY160063 | 3/1/2016 3/25/2016
|  | Senior Speechwriter | DY160065 | 3/24/2016
Department of Veterans Affairs | Office of Intergovernmental Affairs | Special Assistant | DV160025 | 3/10/2016

The following Schedule C appointing authorities were revoked during March 2016.

Agency name | Organization name | Position title | Request number | Date vacated
Department of Agriculture | Office of the Secretary | Special Advisor | DA150118 | 03/11/2016
| Office of the Assistant Secretary for Congressional Relations | Senior Legislative Analyst | DA150035 | 03/19/2016
| Office of the Chief Financial Officer | Chief of Staff | DA150031 | 03/19/2016
| Office of the Under Secretary for Rural Development | Special Assistant | DA150150 | 03/19/2016
Department of Commerce | Office of Public Affairs | Deputy Director of Public Affairs and Director of Speechwriting | DC160015 | 03/05/2016
Office of the Secretary of Defense | Office of the Assistant Secretary of Defense (International Security Affairs) | Special Assistant to the Assistant Secretary of Defense for International Security Affairs | DD150037 | 03/05/2016
| Office of the Assistant Secretary of Defense (Legislative Affairs) | Special Assistant (2) | DD150141 DD150034 | 03/06/2016 03/19/2016
| Washington Headquarters Services | Defense Fellow | DD140024 | 03/06/2016
| Office of Assistant Secretary of Defense (Public Affairs) | Research Assistant | DD150012 | 03/19/2016
| Office of the Secretary | Special Assistant to the Secretary of Defense | DD150155 | 03/19/2016
Department of the Air Force | Office of the Under Secretary | Special Assistant | DF140031 | 03/05/2016
| Office of the Secretary | Executive Speechwriter | DF110016 | 03/19/2016
Department of Education | Office of the Secretary | Director, White House Liaison | DB110105 | 03/04/2016
|  | Deputy White House Liaison | DB150050 | 03/19/2016
| Office of Communications and Outreach | Strategic Advisor to the Secretary, Communications | DB150087 | 03/05/2016
| Office of Planning, Evaluation and Policy Development | Special Assistant | DB150002 | 03/05/2016
| Office of the Deputy Secretary | Director for Strategic Communications and Scheduling | DB150088 | 03/05/2016
| Office of the Under Secretary | Special Assistant | DB150113 | 03/05/2016
Department of Energy | Office of the Secretary | Special Advisor for Finance | DE140003 | 03/05/2016
Department of Health and Human Services | Office of Intergovernmental and External Affairs | Confidential Assistant | DH140050 | 03/05/2016
| Office of the Assistant Secretary for Public Affairs | Director of Speechwriting | DH150128 | 03/19/2016
Department of Homeland Security | Office of the Assistant Secretary for Public Affairs | Deputy Press Secretary | DM150222 | 03/04/2016
|  | Deputy Director of Speechwriting | DM140142 | 03/19/2016
|  | Press Secretary | DM150225 | 03/19/2016
| Office of the Executive Secretariat | Special Projects Coordinator | DM150265 | 03/05/2016
| Office of the Under Secretary for National Protection and Programs Directorate | Confidential Assistant | DM150063 | 03/05/2016
| Office of the Under Secretary for Science and Technology | Special Assistant to the Under Secretary and Deputy Secretary for Science and Technology | DM150193 | 03/05/2016
| United States Customs and Border Protection | Advisor to the commissioner | DM140213 | 03/05/2016
| Office of the Assistant Secretary for Intergovernmental Affairs | External Engagement Coordinator | DM150035 | 03/11/2016
| Office of the Assistant Secretary for Policy | Special Assistant in Information Sharing Policy | DM150051 | 03/19/2016
| Office of the Chief of Staff | Deputy White House Liaison | DM160001 | 03/19/2016
Department of Justice | Office of Legislative Affairs | Confidential Assistant | DJ140110 | 03/05/2016
| Office of Public Affairs | Chief Speechwriter | DJ150093 | 03/05/2016
| Office on Violence Against Women | Special Assistant | DJ150071 | 03/05/2016
| Executive Office for United States Attorneys | Counsel | DJ150016 | 03/19/2016
| Office of the Associate Attorney General | Senior Counsel | DJ150012 | 03/19/2016
Office of Personnel Management | Office of the Director | Director of Scheduling and Advance | PM140032 | 03/19/2016
Department of Transportation | Office of the General Counsel | Associate General Counsel | DT160017 | 03/04/2016
| Office of the Assistant Secretary for Governmental Affairs | Deputy Assistant Secretary for Governmental Affairs | DT140029 | 03/05/2016
| Office of the Assistant Secretary for Governmental Affairs | Associate Director for State and Local Governmental Affairs | DT150013 | 03/19/2016
| Office of Public Affairs | Deputy Director for Public Affairs | DT150042 | 03/05/2016
|  | Assistant Press Secretary | DT150048 | 03/19/2016
| Office of the Administrator | Director of Communications | DT150018 | 03/19/2016
| Office of the Assistant Secretary for Budget and Programs | Special Assistant | DT140039 | 03/19/2016
Department of the Treasury | Office of the Assistant Secretary (Public Affairs) | Senior Speechwriter | DY160012 | 03/26/2016

Authority: 5 U.S.C. 3301 and 3302; E.O. 10577, 3 CFR, 1954-1958 Comp., p. 218.

U.S. Office of Personnel Management.
Beth F. Cobert,
Acting Director.

[FR Doc. 2016-27900 Filed 11-18-16; 8:45 am]

BILLING CODE 6325-39-P